DEPARTMENT OF HOMELAND SECURITY

Coast Guard

33 CFR Part 117

[Docket No. USCG-2017-0355]

Drawbridge Operation Regulation; Lake Washington Ship Canal, Seattle, WA

AGENCY: Coast Guard, DHS.

ACTION: Notice of deviation from drawbridge regulation.

SUMMARY: The Coast Guard has issued a temporary deviation from the operating schedule that governs the Montlake Bridge across Lake Washington Ship Canal, mile 5.2, at Seattle, WA. The deviation is necessary to accommodate the Emerald City Bike Ride event. This deviation allows the bridge span to remain in the closed-to-navigation position.

DATES: This deviation is effective from 6 a.m. to 9 a.m. on May 28, 2017.

ADDRESSES: The docket for this deviation, [USCG-2017-0355] is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: The Washington Department of Transportation (bridge owner) has requested a temporary deviation from the operating schedule for the Montlake Bridge across Lake Washington Ship Canal, at mile 5.2, at Seattle, WA. The deviation is necessary to accommodate event participates to cross the bridge safely. The Montlake Bridge is a double leaf bascule bridge; and in the closed-to-navigation position provides 30 feet of vertical clearance throughout the navigation channel, and 46 feet of vertical clearance throughout the center 60 feet of the bridge; vertical clearance references to Mean Water Level of Lake Washington. To facilitate this event, the double bascule span will remain closed from 6 a.m. to 9 a.m. on May 28, 2017. The Coast Guard coordinated with the local mariners by request any objections via the Local Notice to Mariners.

The normal operating schedule for the Montlake Bridge operates in accordance with 33 CFR 117.1051(e). Waterway usage on the Lake Washington Ship Canal ranges from commercial tug and barge to small pleasure craft. Vessels able to pass through the bridge in the closed-to-navigation position may do so at anytime. The bridge will be able to open for emergencies and emergency vessels in route to a call. Lake Washington Ship Canal has no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the designated time period. This deviation from the operating regulations is authorized under 33 CFR 117.35.

Dated: April 27, 2017.
Steven M. Fischer,
Bridge Administrator, Thirteenth Coast Guard District.

[FR Doc. 2017-09723 Filed 5-12-17; 8:45 am]

BILLING CODE 9110-04-P